DEPARTMENT OF JUSTICE

Notice of Lodging of Consent Decree Pursuant to the Comprehensive Environmental Response, Compensation, and Liability Act

In accordance with Departmental policy, 28 CFR 50.7, notice is hereby given that three proposed consent decrees in United States v. Quemetco, Inc., et al., Civil Action No. CV-02-225-C, were lodged on January 31, 2002, with the United States District Court for the Western District of Washington. The consent decrees require the defendants Quemetco, Inc., BFI Waste Systems of North America, Inc., and the University of Washington, to compensate the trustees for natural resource damages at the Tualip Landfill Superfund Site, which consist of the State of Washington Department of Ecology, the Tulalip Tribes of Washington, the National Oceanic and Atmospheric Administration of the United States Department of Commerce, and the United States Department of Interior, for natural resource damages at the Tualip Landfill Superfund Site that have resulted from the release of hazardous substances at the Site. Under the consent decrees Quemetco will pay $39, 839 for natural resource damages, BFI Waste Systems of North America will pay $37, 981, and the University of Washington will pay $39, 139.

The Department of Justice will receive, for a period of thirty (30) days from the date of this publication, comments relating to the proposed consent decrees. Comments should be addressed to the Assistant Attorney General for the Environment and Natural Resources Division, Department of Justice, Washington, DC 20530, and should refer to United States v. Quemetco, Inc., et al., DOJ Ref. #90-11-3-1412/9.

The proposed consent decrees may be examined at the office of the United States Attorney, 101 Fifth Avenue, Seattle WA 98104. A copy of the proposed consent decrees may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $5.00 (25 cents per page reproduction cost) payable to the U.S. Treasury.

Robert E. Maher, Jr.,
Assistant Chief, Environmental Enforcement Section, Environment and Natural Resources Division.

[FR Doc. 02-5754 Filed 3-8-02; 8:45 am]

BILLING CODE 4410-01-M